DEPARTMENT OF TRANSPORTATION

Federal Transit Administration

[Docket No. FTA-2006-24037]

Clarification for Fiscal Year (FY) 2007 Implementation for the Elderly Individuals and Individuals With Disabilities, Job Access and Reverse Commute (JARC), and New Freedom Programs

AGENCY: Federal Transit Administration (FTA), Department of Transportation (DOT).

ACTION: Interim guidance for FY 2007 implementation.

SUMMARY: The Federal Transit Administration (FTA) published a Federal Register notice on September 6, 2006 (71FR52610) announcing proposed guidance in the form of circulars to assist grantees in implementing the Elderly Individuals and Individuals with Disabilities (Section 5310), JARC, and New Freedom programs. By this notice, FTA clarifies interim guidance for FY 2007 included in the notice published on September 6, 2006, and provides additional interim guidance for FY 2007.

DATES: This clarification is effective on October 31, 2006.

ADDRESSES: FTA continues to invite public comment on the proposed circulars for these programs through November 6, 2006 via the Web site: http://dms.dot.gov (Docket Number FTA-2006-24037); fax at 202-493-2251; or mail: Docket Management Facility; U.S. Department of Transportation, 400 Seventh Street, SW., Nassif Building, PL-401, Washington, DC 20590-0001.

FOR FURTHER INFORMATION CONTACT: Henrika Buchanan-Smith, Office of Program Management, Federal Transit Administration, 400 Seventh Street, SW., Room 9114, Washington, DC 20590, phone: (202) 366-4020, fax: (202) 366-7951, or e-mail, Henrika.Buchanan-Smith@dot.gov.

SUPPLEMENTARY INFORMATION: FTA published a Federal Register notice and proposed program guidance circulars on September 6, 2006 for the Elderly Individuals and Individuals with Disabilities (Section 5310), JARC, and New Freedom programs. In the notice, FTA included “Guidance for the Coordinated Planning Process for FY 2007,” phasing in the requirements for the locally developed coordinated public transit-human service transportation plan.

This notice clarifies that applicants should follow this interim guidance regarding the planning process for all grants awarded under these three programs in FY 2007, including funds appropriated and apportioned in both FY 2006 and FY 2007.

An earlier Federal Register notice published March 15, 2006, included “Interim Guidance for the Elderly Individuals and Individuals with Disabilities, JARC, and New Freedom Grants for FY 2006.” At the time FTA published that Interim Guidance, we expected to issue final guidance before FY 2007, and the interim guidance was only made applicable to FY 2006 grants. The interim guidance for FY 2007 in the September 6, 2006 notice, however, applied only to the coordinated plan, not to other topics addressed in the FY 2006 interim guidance. The three proposed circulars include guidance for other areas such as designated recipient, competitive selection, project eligibility, and subrecipient eligibility. The proposed requirements in these circulars are based on provisions in the Safe, Accountable, Flexible, Efficient Transportation Equity Act: A Legacy for Users (SAFETEA-LU) as well as issues raised and commented on during the public comment period. The proposed circulars reflect FTA's current interpretation of SAFETEA-LU.

The guidance contained in the proposed circulars should be used for applications submitted during FY 2007, to the extent possible. However, FTA recognizes that some designated recipients may have proceeded in good faith based on the interim guidance for FY 2006 in the March 15, 2006, notice, which stated that in the event FTA subsequently established more specific criteria for the coordinated planning or competitive selection process, or for project eligibility, the requirements would not be applied retroactively to grants awarded prior to the issuance of the guidance.

FTA will continue to apply this “hold harmless” principle to applications submitted in FY 2007 based on coordinated planning or competitive selection processes substantially complete before the issuance of final guidance. Designated recipients should be aware that projects awarded funding prior to the issuance of final guidance may not be eligible for continuation funding in future years if they do not meet the eligibility criteria in the final guidance. When FTA subsequently issues final guidance it will be effective in FY 2008.

Issued in Washington, DC, this 23rd day of October, 2006.
James S. Simpson,
Administrator.

[FR Doc. E6-18259 Filed 10-30-06; 8:45 am]

BILLING CODE 4910-57-P